DEPARTMENT OF TRANSPORTATION

Federal Aviation Administration

14 CFR Part 71

[Docket No. FAA-2025-2023; Airspace Docket No. 25-ANM-137]

RIN 2120-AA66

Establishment of United States Area Navigation (RNAV) Route Q-151 and Revocation of Jet Route J-517 in the Northern United States

AGENCY: Federal Aviation Administration (FAA), DOT.

ACTION: Final rule; correction.

SUMMARY: This action corrects a final rule published by the FAA in the Federal Register on February 24, 2026, establishing United States Area Navigation (RNAV) Route Q-151 and revoking Jet Route J-517 in the northern United States. Specifically, this action administratively corrects an error in the effective date of this rule by updating it from May 19, 2026, to May 14, 2026, to coincide with the publication dates of aeronautical charts.

DATES: The effective date of the final rule published in the Federal Register on February 24, 2026, is changed to 0901 UTC, May 14, 2026. The Director of the Federal Register approves this incorporation by reference action under 1 CFR part 51, subject to the annual revision of FAA Order 7400.11 and publication of conforming amendments.

ADDRESSES: A copy of the notice of proposed rulemaking (NPRM), all comments received, the final rule, and all background material may be viewed online at www.regulations.gov using the FAA Docket number. Electronic retrieval help and guidelines are available on the website. It is available 24 hours each day, 365 days each year. An electronic copy of this document may also be downloaded from www.federalregister.gov.

FAA Order 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

History

The FAA published a final rule in the Federal Register (91 FR 8729; February 24, 2026) establishing United States Area Navigation (RNAV) Route Q-151 and revoking Jet Route J-517 in the northern United States due to the lack of navigational signal coverage, restricting usage of J-517. After the publication of that final rule, the FAA discovered that the effective date in the rule was incorrect. The effective date listed in the final rule was listed as May 19, 2026, and should have been listed as May 14, 2026. This rule corrects this error.

Correction to the Final Rule

Accordingly, pursuant to the authority delegated to me, the effective date of the final rule for Docket No. FAA-2025-2023 as published in the Federal Register on February 24, 2026 (91 FR 8729), FR Doc. 2026-03649, is corrected as follows:

1. On page 8729, in the second column, in the section titled 'DATES', delete the text “Effective date 0901 UTC, May 19, 2026.” and replace it with “Effective date 0901 UTC, May 14, 2026.”

Issued in Washington, DC, on February 25, 2026.
Alex W. Nelson,
Manager, Rules and Regulations Group.

[FR Doc. 2026-04028 Filed 2-27-26; 8:45 am]

BILLING CODE 4910-13-P